DEPARTMENT OF JUSTICE

Notice of Lodging of Consent Decree Under the Comprehensive Environmental Response, Compensation, and Liability Act (CERCLA)

Consistent with 28 CFR 50.7, notice is hereby given that on April 1, 2010, a Consent Decree in United States v. Exxon Mobil Corporation and Holcim (US) Inc., Civil Action No. 3:10-cv-00222-RET-CN, was lodged with the United States District Court for the Middle District of Louisiana.

In a complaint that was filed simultaneously with the Consent Decree, the United States sought from Exxon Mobil Corporation and from Holcim (US) Inc. costs incurred by the United States in response to the release or threatened release of hazardous substances at the Coastal Radiation Services Superfund Site in San Gabriel, Iberville Parish, Louisiana. (The United States alleges that Holcim is liable as a result of its acquisition of and merger with Ideal Basic Industries, formerly known as Ideal Cement Company.) The Site, located in part at 6745 Bayou Paul Road, San Gabriel, Louisiana, was contaminated with radioactive substances, primarily cesium-137 and thorium-232. The United States Environmental Protection Agency removed 111 tons of non-hazardous debris and 4,415 cubic yards of radioactive soil and debris. Demobilization was complete on January 4, 2004. As of October 31, 2007, EPA had unreimbursed costs of $7,542,587.

Pursuant to the Consent Decree, Exxon Mobil Corporation will pay the United States $4,200,000 and Holcim (US) Inc. will pay the United States $600,000.

The Department of Justice will receive comments relating to the Consent Decree for a period of thirty (30) days from the date of this publication. Comments should be addressed to the Assistant Attorney General, Environment and Natural Resources Division, P.O. Box 7611, U.S. Department of Justice, Washington, DC 20044-7611, or submitted via e-mail to pubcomment-ees.enrd@usdoj.gov, and should refer to United States v. Exxon Mobil Corporation and Holcim (US) Inc., D.J. Ref. No. 90-11-3-07861/1.

The Consent Decree may be examined at the Offices of the U.S. Environmental Protection Agency, Region 6, 1445 Ross Avenue, Dallas, Texas. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $7.00 (25 cents per page reproduction cost) payable to the U.S. Treasury.

Maureen M. Katz,
Assistant Section Chief, Environmental Enforcement Section, Environment and Natural Resources Division.

[FR Doc. 2010-7825 Filed 4-6-10; 8:45 am]

BILLING CODE 4410-15-P